DEPARTMENT OF THE INTERIOR

Bureau of Land Management

[AZ-020-034-1010-02]

Closure of Public Lands to Camping and Off-Highway Vehicle Use

AGENCY: Bureau of Land Management, Interior.

ACTION: Notice of closure of public lands to camping and off-highway vehicle use.

SUMMARY: Notice is hereby given that the following described lands are temporarily closed until further notice to camping and off-highway vehicle use for the protection of public health and safety under the provisions of 43 CFR 8364.1 and the Federal Land Policy and Management Act of 1976 (43 U.S.C. 1701). Persons with authorization to utilize the area by BLM regulations, contracts, leases or permits, may use the area described in accordance with those authorizations. Nothing in this closure effects the exercise of valid existing rights created by a contract, right-of-way, lease, permit or mining claim that is carried out in accordance with the regulations under which the rights were established. The closure will remain in effect until rescinded or modified by the Phoenix Field Manager.

Gila and Salt River Meridian, Arizona

T. 1 N., R. 7 E.,

Sec. 18, Lots 6, 13, 15-19, 21, N½SE¼, SE¼ SE¼.

T. 2 N., R. 1 W.,

Sec. 13, SW¼SE¼;

Sec. 24, NW¼NE¼.

EFFECTIVE DATE: This order is effective upon the signature of the authorized officer.

SUPPLEMENTARY INFORMATION: The public lands involved (approximately 301 acres), located at University Drive/Sossman Road and Camelback Road/Agua Fria River, are adjacent to areas of expanding urban development. Unregulated and extended overnight camping and off-highway vehicle use is not consistent with the orderly growth of the communities and presents health, safety and law enforcement problems.

Fugitive dust resulting from operation of off-highway vehicles in air quality non-attainment areas is a growing and continuing problem. Landowner compliance with Maricopa County and State of Arizona dust abatement and management regulations is becoming critical in the urban areas of Maricopa County. BLM is subject to these rules, especially Maricopa County Rules 301, 302, and 310.01. Air quality issues include considerable PM10 dust from the operation of off-highway vehicles, extensive PM10 accumulations from OHV activities during late afternoons and on weekends, and significant numbers of complaints from concerned citizens.

Increasing levels of local law enforcement time have been allocated to answering disturbance calls from residents and property owners adjacent to these public lands. Law enforcement service calls included OHV-related dust, noise, trespass, random gunfire, drug and alcohol violation arrests, fireworks use, suspicious circumstance calls, illegal dumping of dirt, debris and trash and other illicit activities.

This closure will be monitored and enforced by BLM, the Maricopa County Sheriff's Department and other law enforcement agencies. The following persons, operating within the scope of their official duties, are exempt from the provisions of these closures: BLM employees, state or federal law enforcement and fire protection personnel.

Because of prior existing rights, the following parties (and their representatives) will be allowed access to the above described lands:

(1) USDI, Bureau of Reclamation—(AZA-453, AZA-18823, AZA-19991, AZPHX-086506, AZPHX-86777and Secretarial Orders dated July 2, 1902 and August 21, 1909)

U.S. West—(AZA-10994, AZAR-035574)

City of Mesa—(AZA-17277, AZA-31058)

Maricopa County DOT—(AZAR-035348)

(2) Salt River Project—(AZA-166)

Tucson Electric Power Co.—(AZA-7274, AZA-7872)

Arizona Public Service Co.—(AZA-18635)

Maricopa County DOT—(AZA-19098)

Maricopa County FCD—(AZA-23639)

Order: Notice is hereby given that effective the date of a signature by the authorized officer of this notice, the above described lands are closed to camping and off-highway vehicle use until further notice. Any person who fails to comply with a closure or restriction order issued under 43 CFR 8364 is subject to the penalties provided in 43 CFR Subpart 8360.0-7.

FOR FURTHER INFORMATION CONTACT: Michael A. Taylor, Field Manager, Phoenix Field Office, 21605 North 7th Avenue, Phoenix, Arizona 85027, (623) 580-5500.

Dated: December 19, 2001.
Michael A. Taylor,
Field Manager.

[FR Doc. 02-6776 Filed 3-20-02; 8:45 am]

BILLING CODE 4310-31-P